DEPARTMENT OF TRANSPORTATION

Federal Aviation Administration

14 CFR Part 39

[Docket No. FAA-2022-1070; Project Identifier MCAI-2021-00686-R]

RIN 2120-AA64

Airworthiness Directives; Airbus Helicopters Deutschland GmbH (AHD) (Type Certificates Previously Held by Messerschmitt-Bolkow-Blohm [MBB], and Eurocopter Deutschland GmbH [ECD]) Helicopters

AGENCY: Federal Aviation Administration (FAA), DOT.

ACTION: Notice of proposed rulemaking (NPRM).

SUMMARY: The FAA proposes to supersede airworthiness directive (AD) 77-04-06, which applies to Messerschmitt-Bolkow-Blohm (MBB) (now Airbus Helicopters Deutschland GmbH (AHD)) Model BO-105A and BO-105 C helicopters; AD 2002-13-06, which applies to certain Eurocopter Deutschland GmbH (ECD) (now Airbus Helicopters Deutschland GmbH (AHD)) Model BO-105A, BO-105C, BO-105 C-2, BO-105 CB-2, BO-105 CB-4, BO-105 CS-2, BO-105 CBS-2, BO-105S, and BO-105LS A-1 helicopters; AD 2016-25-14, which applies to certain Airbus Helicopters Deutschland GmbH (AHD) Model BO-105LS A-3 helicopters; and AD 2021-10-14, which applies to certain Airbus Helicopters Deutschland GmbH (AHD) Model BO-105A, BO-105C, BO-105S, and BO-105LS A-3 helicopters. AD 77-04-06 requires reducing the life limit on certain main rotor gearbox (MGB) supports. AD 2002-13-06 requires determining the calendar age, number of flights, and flight hours time-in-service (TIS) on certain tension-torsion (TT) straps; revising the Airworthiness Limitations Schedule (ALS) of the existing maintenance manual; removing and replacing each TT strap that has exceeded its life limit, or if the TT strap's total hours TIS or number of flights and age are not known; and modifying certain parts. AD 2016-25-14 requires establishing a life limit for certain TT straps and removing certain parts that have exceeded the new life limit. AD 2021-10-14 requires replacement of certain TT straps with serviceable parts, and implementation of a new storage life limit for certain TT straps. Since the FAA issued those ADs, new and more restrictive airworthiness limitations have been issued. This proposed AD would require incorporating into existing maintenance records requirements (airworthiness limitations) as specified in a European Union Aviation Safety Agency (EASA) AD, which is proposed for incorporation by reference (IBR). This proposed AD would also prohibit the installation of certain part-numbered TT straps. The FAA is proposing this AD to address the unsafe condition on these products.

DATES: The FAA must receive comments on this proposed AD by October 24, 2022.

ADDRESSES: You may send comments, using the procedures found in 14 CFR 11.43 and 11.45, by any of the following methods:

• Federal eRulemaking Portal: Go to www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that is proposed for IBR in this NPRM, contact EASA, Konrad-Adenauer-Ufer 3, 50668 Cologne, Germany; telephone +49 221 8999 000; email ADs@easa.europa.eu; internet www.easa.europa.eu. You may find the EASA material on the EASA website at https://ad.easa.europa.eu. For Airbus Helicopters service information identified in this NPRM, contact Airbus Helicopters, 2701 North Forum Drive, Grand Prairie, TX 75052; telephone (972) 641-0000 or (800) 232-0323; fax (972) 641-3775; or at www.airbus.com/helicopters/services/technical-support.html. You may view this material at the FAA, Office of the Regional Counsel, Southwest Region, 10101 Hillwood Pkwy., Room 6N-321, Fort Worth, TX 76177. For information on the availability of this material at the FAA, call (817) 222-5110. EASA material that is IBRed is also available at www.regulations.gov by searching for and locating Docket No. FAA-2022-1070.

Examining the AD Docket

You may examine the AD docket at www.regulations.gov by searching for and locating Docket No. FAA-2022-1070; or in person at Docket Operations between 9 a.m. and 5 p.m., Monday through Friday, except Federal holidays. The AD docket contains this NPRM, the EASA AD, any comments received, and other information. The street address for Docket Operations is listed above.

FOR FURTHER INFORMATION CONTACT: Kristi Bradley, COS Program Manager, COS Program Management Section, Operational Safety Branch, Compliance & Airworthiness Division, FAA, 10101 Hillwood Parkway, Fort Worth, TX 76177; telephone (817) 222-5110; email kristin.bradley@faa.gov.

SUPPLEMENTARY INFORMATION:

Comments Invited

The FAA invites you to send any written relevant data, views, or arguments about this proposal. Send your comments to an address listed under ADDRESSES. Include “Docket No. FAA-2022-1070; Project Identifier MCAI-2021-00686-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kristi Bradley, COS Program Manager, COS Program Management Section, Operational Safety Branch, Compliance & Airworthiness Division, FAA, 10101 Hillwood Parkway, Fort Worth, TX 76177; telephone (817) 222-5110; email Kristin.bradley@faa.gov. Any commentary that the FAA receives that is not specifically designated as CBI will be placed in the public docket for this rulemaking.

Background

The FAA issued AD 77-04-06, Amendment 39-2835 (42 FR 9670, February 17, 1977; amended 44 FR 46783, August 9, 1979) (AD 77-04-06) for Messerschmitt-Bolkow-Blohm (MBB) Model BO-105A and BO-105C helicopters. AD 77-04-06 was prompted by reports of internal corrosion of the MGB supports, which could significantly reduce the structural strength and service life. After AD 77-04-06 was issued, the FAA determined based on service experience and additional test investigations the total hours TIS for certain part-numbered MGB supports could be increased. Accordingly, the FAA amended AD 77-04-06 by issuing Amendment 39-3528 (44 FR 46783, August 9, 1979), which increased the life limit for the MGB supports to 6,800 hours TIS.

The FAA issued AD 2002-13-06, Amendment 39-12794 (67 FR 43526, June 28, 2002) (AD 2002-13-06) for Eurocopter Deutschland GmbH (ECD) Model BO-105A, BO-105C, BO-105 C-2, BO-105 CB-2, BO-105 CB-4, BO-105S, BO-105 CS-2, BO-105 CBS-2, BO-105 CBS-4, and BO-105LS A-1 helicopters, with main rotor (MR) head assembly, part number (P/N) 105-14101, and TT strap P/N 2602559 or 2606576, installed. AD 2002-13-06 was prompted by an accident in which an MR blade separated from a Eurocopter Model MBB-BK 117 helicopter due to fatigue failure of a TT strap; the same part-numbered TT strap is used on Model BO-105 helicopters. AD 2002-13-06 was also prompted by the determination that an additional life limit for certain part-numbered TT straps needs to be established. AD 2002-13-06 requires creating a component log card or equivalent record and determining the calendar age, number of flights, and flight hours TIS on certain part-numbered TT straps; removing and replacing any TT strap that has exceeded its life limit, or the total hours TIS or number of flights and age are not known; and modifying certain MR heads before certain part-numbered TT straps are installed. AD 2002-13-06 also requires revising the ALS of the existing maintenance manual to reflect these new life limits.

The FAA issued AD 2016-25-14, Amendment 39-18740 (81 FR 94944, December 27, 2016) (AD 2016-25-14) for Airbus Helicopters Deutschland GmbH Model BO-105LS A-3 helicopters with TT strap P/N 2604067 or P/N 117-14110 installed. AD 2016-25-14 was prompted by the determination that life limits have been introduced for certain part-numbered TT straps installed on the helicopter lifting system, and during the revision of the ALS for the existing Model BO-105LS A-3 maintenance manual, the life limit for the TT strap was inadvertently deleted. AD 2016-25-14 requires inspecting the helicopter records to determine if there is a life limit of 25,000 flights, or 10 years since the date of manufacturer, whichever occurs first, for the TT straps. Depending on the inspection results, AD 2016-25-14 requires establishing a life limit if none exists; revising the ALS of the existing maintenance manual, and creating a component history card or equivalent record to reflect this life limit; and replacing each TT strap that has reached or exceeded its life limit.

The FAA issued AD 2021-10-14, Amendment 39-21547 (86 FR 27268, May 20, 2021) (AD 2021-10-14) for Airbus Helicopters Deutschland GmbH Model BO-105A, BO-105C, BO-105S, and BO105LS A-3 helicopters equipped with a certain TT strap. AD 2021-10-14 was prompted by the FAA's determination that aging of the elastomeric material in a TT strap could affect the structural characteristics of the TT strap. AD 2021-10-14 requires replacement of certain TT straps with serviceable parts and implementation of a new storage life limit for TT straps.

Actions Since AD 77-04-06, AD 2002-13-06, AD 2016-25-14, and AD 2021-10-14 Were Issued

Since the FAA issued AD 77-04-06, AD 2002-13-06, AD 2016-25-14, and AD 2021-10-14, EASA, which is the Technical Agent for the Member States of the European Union, issued EASA AD 2021-0142, dated June 17, 2021 (EASA AD 2021-0142), which superseded EASA AD 2019-0024, dated February 4, 2019 (which prompted AD 2021-10-14); EASA AD 2015-0042, dated March 9, 2015 (which prompted AD 2016-25-14); EASA AD 2013-0015, dated January 16, 2013; EASA AD 2010-0153, dated July 27, 2010; Luftfahrt-Bundesamt (LBA) Germany AD 2001-281, dated October 18, 2001 (which prompted AD 2002-13-06); and LBA Germany AD 76-136/2, dated October 5, 1978 (which prompted AD 77-04-06). EASA issued AD 2021-0142 to correct an unsafe condition for Airbus Helicopters Deutschland GmbH (AHD), formerly Eurocopter Deutschland GmbH, Eurocopter Hubschrauber Deutschland GmbH, Messerschmitt-Bölkow-Blohm GmbH; Eurocopter Canada Ltd, formerly Messerschmitt-Bölkow-Blohm Helicopter Canada Limited, Model BO105 A, BO105 C, BO105 D, BO105 S, BO105 LS A-1, and BO105 LS A-3 helicopters, all variants, all serial numbers, including BO105 LS A-3 helicopters modified in accordance with EASA Supplemental Type Certificate (STC) 10039633, or previously LBA Germany STC EMZ NR. 0654/3058 (commercially known as “Superlifter”). EASA advises the airworthiness limitations for AHD Model BO105 helicopters are defined and published in the AHD BO105 Aircraft Maintenance Manual (AMM) Chapter 101-15—ALS, Issue 2, Revision 31 (for BO105 A, BO105 C, BO105 D, BO105 S, and BO105 LS A-1 helicopters); AHD BO105 LS A-3 AMM Chapter 101-15—ALS, Issue 4, Revision 7 (for BO105 LS A-3 helicopters); and AHD BO105 LS A-3 AMM Appendix 010, Issue 1, Revision 4 (for BO105 LS A-3 `Superlifter' helicopters); as applicable.

EASA advises the instructions contained in “the applicable ALS” as defined in EASA AD 2021-0142 have been identified as mandatory actions for continued airworthiness, and failure to comply with those instructions could result in an unsafe condition. Accordingly, EASA AD 2021-0142 requires accomplishment of the actions specified in “the applicable ALS,” as defined in EASA AD 2021-0142. The FAA is proposing this AD to address the failure of certain parts, which could result in the loss of control of the helicopter. See EASA AD 2021-0142 for additional background information.

Additionally, the actions required to address the unsafe conditions in AD 77-04-06, AD 2002-13-06, AD 2016-25-14, and AD 2021-10-14 are included in “the applicable ALS,” as defined in EASA AD 2021-0142. Therefore, the FAA is proposing to supersede AD 77-04-06, AD 2002-13-06, AD 2016-25-14, and AD 2021-10-14 in order to reduce the burden on operators by requiring compliance with a single FAA AD in lieu of multiple FAA ADs.

AD 77-04-06 requires replacing MGB support P/N 105-10161 and 105-10162 with serviceable supports within the next 10 hours TIS after the effective date of AD 77-04-06 or prior to the accumulation of 6,800 hours TIS on the supports, whichever occurs later, and, thereafter, continue to replace the supports prior to the accumulation of 6,800 hours TIS. EASA AD 2021-0142 requires incorporating “the applicable ALS,” as defined in EASA AD 2021-0142, which identifies the same life limit for these MGB supports as that required by AD 77-04-06. Therefore, the FAA is proposing to supersede AD 77-04-06 in order to reduce the burden on operators.

AD 2002-13-06 requires creating a component log card or equivalent record and determining the calendar age, number of flights, and flight hours TIS on certain part-numbered TT straps; inspecting and replacing certain TT straps, as necessary; and modifying certain main rotor heads if alternate TT straps are installed. This action also establishes an additional life limit for certain part-numbered TT straps. EASA AD 2021-0142 requires incorporating the limitations described in “the applicable ALS,” as defined in EASA AD 2021-0142, into the approved aircraft maintenance program and introduces a new storage life limit of 5 years for certain TT straps.

AD 2016-25-14 requires inspecting the ALS of the applicable maintenance manual for your helicopter or the Instructions for Continued Airworthiness (ICA) and the component history card or equivalent record for TT strap P/N 2604067 and P/N 117-14110 and determining whether those records specify a life limit of 25,000 flights or 10 years since the date of manufacture, whichever occurs first. If the ALS, ICA, component history card, or equivalent record do not specify a life limit for the TT straps, or if they specify a life limit other than 25,000 flights or 10 years since the date of manufacture, whichever occurs first, AD 2016-25-14 requires revising the existing ALS or ICA by establishing a life limit for each TT strap P/N 2604067 and P/N 117-14110 of 25,000 flights or 10 years since the date of manufacture, whichever occurs first. AD 2016-25-14 also requires removing from service each TT strap that has reached or exceeded its life limit. EASA AD 2021-0142 requires incorporating “the applicable ALS,” as defined in EASA AD 2021-0142, into the approved aircraft maintenance program and introduces a new storage life limit of 5 years for certain TT straps.

AD 2021-10-14 requires replacement of certain TT straps with serviceable parts and implementation of a new storage life limit for TT straps. After AD 2021-10-14 was issued, EASA issued AD 2021-0142, which requires incorporating “the applicable ALS,” as defined in EASA AD 2021-0142, into the approved aircraft maintenance program. The FAA determined that the life limits in AD 2021-10-14 for Bendix TT strap P/Ns 2604067 and 117-14110 were incorrectly stated as 40,000 flight cycles for Model BO105LS A-3 helicopters. This proposed AD would correct the life limit to 25,000 flight cycles or 10 years, whichever occurs first, which is the life limit in “the applicable ALS,” as defined in EASA AD 2021-0142.

Additionally, the FAA determined that AD 2021-10-14 incorrectly stated the life limits for Bendix TT strap P/Ns 2606576 and 2602559 as 40,000 flight cycles for Model BO105A, BO105C, and BO105S helicopters. This proposed AD would correct the life limit to 15,600 flight cycles, 2,400 hours TIS, or 10 years, whichever occurs first, which is the life limit in “the applicable ALS,” as defined in EASA AD 2021-0142.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of the same type design.

Related Service Information Under 1 CFR Part 51

EASA AD 2021-0142 requires replacing certain components before exceeding their applicable life limit. EASA AD 2021-0142 also prohibits installing Bendix TT-strap P/N 2602559, P/N 2606576, P/N 2604067, or P/N 117-14110, and requires revising the approved aircraft maintenance program (AMP) by incorporating the limitations described in “the applicable ALS” as defined in EASA AD 2021-0142.

This material is reasonably available because the interested parties have access to it through their normal course of business or by the means identified in the ADDRESSES section.

Other Related Service Information

The FAA reviewed Airbus Helicopters BO 105 Maintenance Manual (MM), Revision 31, dated December 15, 2020, for Model BO-105A, BO-105C, BO-105 D, BO-105S, and BO-105LS A-1 helicopters; Airbus Helicopters BO 105 LS A-3 MM, Revision 7, dated November 27, 2018, for Model BO-105 LS A-3 helicopters; and Airbus Helicopters MM BO 105 LS A-3 “Super Lifter” Appendix 010, Revision 4, dated March 28, 2019, for BO 105 LS A-3 “Superlifter” helicopters.

This service information specifies certain actions and associated thresholds and intervals, including life limits and maintenance tasks. These requirements (airworthiness limitations) include new life limits, including cure dates and storage life limits, for certain part-numbered TT straps.

Proposed AD Requirements in This NPRM

This proposed AD would require incorporating into existing maintenance records requirements (airworthiness limitations), which are specified in EASA AD 2021-0142 described previously, except as discussed under “Differences Between this Proposed AD and EASA AD 2021-0142.” This proposed AD would also prohibit the installation of Bendix TT-straps having certain P/Ns.

ADs Mandating Airworthiness Limitations

The FAA has previously mandated airworthiness limitations by mandating each airworthiness limitation task (e.g., inspections and replacements (life limits)) as an AD requirement or issuing ADs that require revising the ALS of the existing maintenance manual or instructions for continued airworthiness to incorporate new or revised inspections and life limits. This proposed AD, however, would require operators to incorporate into maintenance records required by 14 CFR 91.417(a)(2) or 135.439(a)(2), as applicable for your rotorcraft, the requirements (airworthiness limitations) specified in EASA AD 2021-0142. The FAA does not intend this as a substantive change. For these ADs, the ALS requirements for operators are the same but are complied with differently. Requiring the incorporation of the new ALS requirements into the existing maintenance records, rather than requiring individual ALS tasks (e.g., repetitive inspections and replacements), requires operators to record AD compliance once after updating the maintenance records, rather than after every time the ALS task is completed.

In addition, paragraph (h) of the proposed AD allows operators to incorporate later approved revisions of the applicable ALS as specified in the provisions of the “Ref. Publications” section of EASA AD 2021-0142 without the need for an alternative method of compliance (AMOC).

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2021-0142 by reference in the FAA final rule. This proposed AD would, therefore, require compliance with EASA AD 2021-0142 through that incorporation, except for any differences identified as exceptions in the regulatory text of this proposed AD. Service information referenced in EASA AD 2021-0142 for compliance will be available at https://www.regulations.gov by searching for and locating Docket No. FAA-2022-1070 after the FAA final rule is published.

Differences Between This Proposed AD and EASA AD 2021-0142

This proposed AD does not require compliance with paragraphs (3), (4), and (5) of EASA AD 2021-0142.

EASA AD 2021-0142 is applicable to Model BO-105D helicopters, whereas this proposed AD is not because Model BO-105D helicopters are not certificated by the FAA and are not included on the U.S. type certificate data sheet. EASA AD 2021-0142 is applicable to Model BO-105 LS A-3 helicopters modified in accordance with EASA STC 10039633, or previously LBA Germany STC EMZ NR. 0654/3058 (commercially known as “Superlifter”), whereas this proposed AD would apply to Model BO-105 LS A-3 helicopters modified in accordance with STC SR00043RD.

Costs of Compliance

The FAA estimates that this AD, if adopted as proposed, would affect 67 helicopters of U.S. Registry. Labor rates are estimated at $85 per work-hour. Based on these numbers, the FAA estimates the following costs to comply with this proposed AD.

Incorporating requirements (airworthiness limitations) into existing maintenance records would take about 2 work-hours for an estimated cost of $170 per helicopter and $11,390 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 77-04-06, Amendment 39-2835 (42 FR 9670, February 17, 1977; amended 44 FR 46783, August 9, 1979); Airworthiness Directive 2002-13-06, Amendment 39-12794 (67 FR 43526, June 28, 2002); Airworthiness Directive 2016-25-14, Amendment 39-18740 (81 FR 94944, December 27, 2016); and Airworthiness Directive 2021-10-14, Amendment 39-21547 (86 FR 27268, May 20, 2021); and

b. Adding the following new airworthiness directive:

Airbus Helicopters Deutschland GmbH (AHD): Docket No. FAA-2022-1070; Project Identifier MCAI-2021-00686-R.

(a) Comments Due Date

The FAA must receive comments on this airworthiness directive (AD) by October 24, 2022.

(b) Affected ADs

This AD replaces the ADs specified in paragraphs (b)(1) through (4) of this AD.

(1) AD 77-04-06, Amendment 39-2835 (42 FR 9670, February 17, 1977; amended 44 FR 46783, August 9, 1979).

(2) AD 2002-13-06, Amendment 39-12794 (67 FR 43526, June 28, 2002).

(3) AD 2016-25-14, Amendment 39-18740 (81 FR 94944, December 27, 2016).

(4) AD 2021-10-14, Amendment 39-21547 (86 FR 27268, May 20, 2021).

Note 1 to paragraph (b): The requirements of this AD capture the latest tasks and life limits required to prevent the unsafe conditions addressed by the ADs that are identified in paragraphs (b)(1) through (4) of this AD.

(c) Applicability

This AD applies to all Airbus Helicopters Deutschland GmbH (AHD) Model BO-105A, BO-105C, BO-105S, BO-105LS A-1, and BO-105LS A-3 helicopters, including BO-105LS A-3 helicopters modified in accordance with Supplemental Type Certificate SR00043RD, certificated in any category.

(d) Subject

Joint Aircraft Service Component (JASC) Code: 6300, Main Rotor Drive System.

(e) Unsafe Condition

This AD was prompted by new and more restrictive airworthiness limitations. The FAA is issuing this AD to address the failure of certain parts, which could result in the loss of control of the helicopter.

(f) Compliance

Comply with this AD within the compliance times specified, unless already done.

(g) Required Actions

(1) Within 30 days after the effective date of this AD, incorporate into maintenance records required by 14 CFR 91.417(a)(2) or 135.439(a)(2), as applicable for your model and configuration helicopter, the requirements (airworthiness limitations) specified in paragraphs (1.1), (1.2), and (1.3), and the Definitions section, of European Union Aviation Safety Agency (EASA) AD 2021-0142, dated June 17, 2021 (EASA AD 2021-0142). Where paragraphs (1.2) and (1.3) of EASA AD 2021-0142 refer to its effective date, this AD requires using the effective date of this AD.

(2) As of the effective date of this AD, comply with the parts installation prohibition specified in paragraph (2) of EASA AD 2021-0142.

(h) Provisions for Alternative Requirements (Airworthiness Limitations)

After the actions required by paragraph (g)(1) of this AD have been done, no alternative requirements (airworthiness limitations) are allowed unless they are approved as specified in the provisions of the “Ref. Publications” section of EASA AD 2021-0142.

(i) Special Flight Permit

Special flight permits, as described in 14 CFR 21.197 and 21.199, are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(2) of this AD. Information may be emailed to: 9-AVS-AIR-730-AMOC@faa.gov.

(2) Before using any approved AMOC, notify your appropriate principal inspector, or lacking a principal inspector, the manager of the local flight standards district office/certificate holding district office.

(k) Related Information

(1) For EASA AD 2021-0142, contact EASA, Konrad-Adenauer-Ufer 3, 50668 Cologne, Germany; telephone +49 221 8999 000; email ADs@easa.europa.eu; internet www.easa.europa.eu. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. This material may be found in the AD docket at www.regulations.gov by searching for and locating Docket No. FAA-2022-1070.

(2) For more information about this AD, contact Kristi Bradley, COS Program Manager, COS Program Management Section, Operational Safety Branch, Compliance & Airworthiness Division, FAA, 10101 Hillwood Parkway, Fort Worth, TX 76177; telephone (817) 222-5110; email kristin.bradley@faa.gov.

Issued on August 31, 2022.
Christina Underwood,
Acting Director, Compliance & Airworthiness Division, Aircraft Certification Service.

[FR Doc. 2022-19220 Filed 9-6-22; 8:45 am]

BILLING CODE 4910-13-P